DEPARTMENT OF TRANSPORTATION

Office of the Secretary

[Docket No. DOT-OST-2015-0246]

RIN 2105-AE12

Nondiscrimination on the Basis of Disability in Air Travel: Negotiated Rulemaking Committee Seventh Meeting

AGENCY: Office of the Secretary, Department of Transportation.

ACTION: Notice of seventh public meeting of advisory committee.

SUMMARY: This notice announces the seventh meeting of the Advisory Committee on Accessible Air Transportation (ACCESS Advisory Committee).

DATES: The seventh meeting of the ACCESS Advisory Committee will be held on November 2, 2016, from 9:00 a.m. to 5:00 p.m., Eastern Daylight Time.

ADDRESSES: The meeting will be held at Hilton Arlington, 950 N. Stafford St., Arlington, VA 22203. Attendance is open to the public up to the room's capacity of 150 attendees. Since space is limited, any member of the general public who plans to attend this meeting must notify the registration contact identified below no later than October 31, 2016.

FOR FURTHER INFORMATION CONTACT: To register to attend the meeting, please contact Kyle Ilgenfritz (kilgenfritz@linkvisum.com; 703-442-4575 extension 128). For other information, please contact Livaughn Chapman or Vinh Nguyen, Office of the Aviation Enforcement and Proceedings, U.S. Department of Transportation, by email at livaughn.chapman@dot.gov or vinh.nguyen@dot.gov or by telephone at 202-366-9342.

SUPPLEMENTARY INFORMATION:

I. Seventh Public Meeting of the ACCESS Committee

The seventh meeting of the ACCESS Advisory Committee will be held on November 2, from 9:00 a.m. to 5:00 p.m., Eastern Daylight Time. The meeting will be held at Hilton Arlington, 950 N. Stafford St., Arlington, VA 22203. At the meeting, the ACCESS Advisory Committee will continue to address whether to require accessible inflight entertainment (IFE) and strengthen accessibility requirements for other in-flight communications. We expect to negotiate and vote on proposals to amend the Department's disability regulation regarding this issue. Prior to the meeting, the agenda will be available on the ACCESS Advisory Committee's Web site, www.transportation.gov/access-advisory-committee. Information on how to access advisory committee documents via the FDMC is contained in Section III, below.

The meeting will be open to the public. Attendance will be limited by the size of the meeting room (maximum 150 attendees). Because space is limited, we ask that any member of the public who plans to attend the meeting notify the registration contact, Kyle Ilgenfritz (kilgenfritz@linkvisum.com; 703-442-4575 extension 128) at Linkvisum, no later than October 31, 2016. At the discretion of the facilitator and the Committee and time permitting, members of the public are invited to contribute to the discussion and provide oral comments.

II. Submitting Written Comments

Members of the public may submit written comments on the topics to be considered during the meeting by October 31, 2016, to FDMC, Docket Number DOT-OST-2015-0246. You may submit your comments and material online or by fax, mail, or hand delivery, but please use only one of these means. DOT recommends that you include your name and a mailing address, an email address, or a phone number in the body of your document so that DOT can contact you if there are questions regarding your submission.

To submit your comment online, go to http://www.regulations.gov, put the docket number, DOT-OST-2015-0246, in the keyword box, and click “Search.” When the new screen appears, click on the “Comment Now!” button and type your comment into the text box on the following screen. Choose whether you are submitting your comment as an individual or on behalf of a third party and then submit. If you submit your comments by mail or hand delivery, submit them in an unbound format, no larger than 8½ by 11 inches, suitable for copying and electronic filing.

III. Viewing Comments and Documents

To view comments and any documents mentioned in this preamble as being available in the docket, go to www.regulations.gov. Enter the docket number, DOT-OST-2015-0246, in the keyword box, and click “Search.” Next, click the link to “Open Docket Folder” and choose the document to review. If you do not have access to the Internet, you may view the docket online by visiting the Docket Management Facility in Room W12-140 on the ground floor of the DOT West Building, 1200 New Jersey Avenue SE., Washington, DC 20590, between 9 a.m. and 5 p.m., E.T., Monday through Friday, except Federal holidays.

IV. ACCESS Advisory Committee Charter

The ACCESS Advisory Committee is established by charter in accordance with the Federal Advisory Committee Act (FACA), 5 U.S.C. App. 2. Secretary of Transportation Anthony Foxx approved the ACCESS Advisory Committee charter on April 6, 2016. The committee's charter sets forth policies for the operation of the advisory committee and is available on the Department's Web site at www.transportation.gov/office-general-counsel/negotiated-regulations/charter.

V. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

VI. Federal Advisory Committee Act

Notice of this meeting is being provided in accordance with the Federal Advisory Committee Act and the General Services Administration regulations covering management of Federal advisory committees. See 41 CFR part 102-3.

Dated: October 24, 2016.
Molly J. Moran,
Acting General Counsel.

[FR Doc. 2016-26192 Filed 10-28-16; 8:45 am]

BILLING CODE 4910-9X-P